ENVIRONMENTAL PROTECTION AGENCY

[EPA-HQ-OPP-2010-0014; FRL-9356-7]

Product Cancellation Order for Certain Pesticide Registrations

AGENCY: Environmental Protection Agency (EPA).

ACTION: Notice.

SUMMARY: This notice announces EPA's order for the cancellations, voluntarily requested by the registrants and accepted by the Agency, of the products listed in Table 1 of Unit II., pursuant to section 6(f)(1) of the Federal Insecticide, Fungicide, and Rodenticide Act (FIFRA), as amended. This cancellation order follows a January 11, 2012 Federal Register Notice of Receipt of Requests from the registrants listed in Table 2 of Unit II. to voluntarily cancel these product registrations. In the January 11, 2012 notice, EPA indicated that it would issue an order implementing the cancellations, unless the Agency received substantive comments within the 180 day comment period that would merit its further review of these requests, or unless the registrants withdrew their requests. The Agency received comments on the notice but none merited its further review of the requests. Further, the registrants did not withdraw their requests. Accordingly, EPA hereby issues in this notice a cancellation order granting the requested cancellations. Any distribution, sale, or use of the products subject to this cancellation order is permitted only in accordance with the terms of this order, including any existing stocks provisions.

DATES: The cancellations are effective July 25, 2012.

FOR FURTHER INFORMATION CONTACT: Katie Weyrauch, Pesticide Re-evaluation Division (7508P), Office of Pesticide Programs, Environmental Protection Agency, 1200 Pennsylvania Ave. NW., Washington, DC 20460-0001; telephone number: (703) 308-0166; fax number: (703) 308-8005; email address: weyrauch.katie@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. How can I get copies of this document and other related information?

The docket for this action, identified by docket identification (ID) number EPA-HQ-OPP-2010-0014, is available at http://www.regulations.gov or at the OPP Docket in the Environmental Protection Agency Docket Center (EPA/DC), located in EPA West, Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. What action is the agency taking?

This notice announces the cancellation, as requested by registrants, of 36 products registered under FIFRA section 3. These registrations are listed in sequence by registration number in Table 1 of this unit.

Table 1—Product Cancellations
EPA registration No. | Product name | Active ingredients
000264-00438 | Bronate Herbicide | MCPA, 2-ethylhexyl ester Bromoxynil octanoate.
000264-00477 | Buctril + Atrazine Herbicide | Bromoxynil octanoate Atrazine.
000264-00586 | Sedagri Batril 20W Herbicide | Bromoxynil octanoate.
000264-00699 | Rhino Brand Herbicide | MCPA, 2-ethylhexyl ester Bromoxynil octanoate Heptanoic acid, 2,6-dibromo-4-cyanophenyl ester.
000264-00799 | Weco Max Brand Herbicide | 2,4-D, 2-ethylhexyl ester Heptanoic acid, 2,6-dibromo-4-cyanophenyl ester Bromoxynil octanoate.
000264-01071 | Wolverine Power Pak | Heptanoic acid, 2,6-dibromo-4-cyanophenyl ester Bromoxynil octanoate Pyrasulfotole Technical Fenoxaprop-p-ethyl.
000279-03104 | Commence EC | Trifluralin Clomazone.
000279-03232 | Command Xtra Herbicide | Clomazone Sulfentrazone.
001043-00060 | T.B.Q. Germicidal Detergent | Alkyl dimethyl benzyl ammonium chloride (50%C14, 40%C12, 10%c16).
002217-00426 | Formec 80 Turf & Ornamental Fungicide | Mancozeb.
010324-00053 | Maquat 2.5% | 1-Decanaminium, N-decyl-N,N-dimethyl-, chloride.
010324-00054 | Maquat-4.5% | 1-Decanaminium, N-decyl-N,N-dimethyl-, chloride.
010324-00055 | Septin CS | Alkyl dimethyl benzyl ammonium chloride (60%C14, 30%C16, 5%C18, 5%C12); Alkyl*dimethyl ethylbenzyl ammonium chloride *(68%c12, 32%c14).
010324-00106 | Q-14 Disinfectant | Alkyl dimethyl benzyl ammonium chloride (50%C14, 40%C12, 10%C16); 1-Octanaminium, N,N-dimethyl-N-octyl-, chloride; 1-Decanaminium, N-decyl-N,N-dimethyl-, chloride; 1-Decanaminium, N,N-dimethyl-N-octyl-, chloride.
010324-00145 | Maquat FP | Alkyl dimethyl ethylbenzyl ammonium chloride (68%C12, 32%C14) Alkyl dimethyl benzyl ammonium chloride (60%C14, 30%C16, 5%C18, 5%C12).
010807-00449 | Country Vet Flea & Tick Carpet Spray with Growth Inhibitor | Phenothrin, Tetramethrin, Pyriproxyfen.
053883-00084 | Pendimethalin 3.3 Herbicide | Pendimethalin.
053883-00086 | Pendimethalin 0,66% + Fertilizer | Pendimethalin.
053883-00138 | Permethrin 3.2 Ag II | Permethrin.
075341-00012 | Hollow Heart CF | Copper naphthenate, Sodium fluoride.
075341-00013 | COP-R-Plastic II Wood Preserving Compound | Copper naphthenate, Sodium fluoride.
CA110009 | Ethylene | Ethylene.
GA080007 | Ridomil Gold Copper | Copper hydroxide D-Alanine, N-(2,6-dimethylphenyl)-N-(methoxyacetyl)-, methyl ester.
GA080011 | Safari 20 SG Insecticide | Dinotefuran.
ID060014 | Prozap Zinc Phosphide Pellets | Zinc phosphide (Zn3P2).
KY080024 | Safari 20 SG Herbicide | Dinotefuran.
MI000003 | Captan 50 Wettable Powder | Captan.
MI060004 | Dual Magnum | S-Metolachlor.
MT950003 | Zinc Phosphide Oat Bait | Zinc phosphide (Zn3P2).
NV040003 | Zinc Phosphide Oat Bait | Zinc phosphide (Zn3P2).
NV060007 | Prozap Zinc Phosphide Pellets | Zinc phosphide (Zn3P2).
NV080003 | Endura Fungicide | Boscalid.
SD070001 | Zinc Phosphide Oat Bait | Zinc phosphide (Zn3P2).
VA080007 | Ridomil Gold Copper | Copper hydroxide D-Alanine, N-(2,6-dimethylphenyl)-N-(methoxyacetyl)-, methyl ester.
VA080009 | Safari 20 SG Insecticide | Dinotefuran.
WA060011 | Tristar 70 WSP Insecticide | Acetamiprid.

Table 2 of this unit includes the names and addresses of record for all registrants of the products in Table 1 of this unit, in sequence by EPA company number. This number corresponds to the first part of the EPA registration numbers of the products listed in Table 1 of this unit.

Table 2—Registrants of Cancelled Products
EPA company No. | Company name and address
264 | Bayer Crop Science LP, 2 T.W. Alexander Dr., P.O. Box 12014, Research Triangle Park, NC 27709.
279 | FMC Corp. Agricultural Products, 1735 Market St., Rm. 1978, Philadelphia, PA 19103.
1043 | Steris Corporation, P.O. Box 147, St. Louis, MO 63166-0147.
2217 | PBI/Gordon Corp., 1217 West 12th St., Kansas City, MO 64101-0090.
10324 | Mason Chemical Co., 721 W. Algonquin Rd., Arlington Heights, IL 60005.
10807 | Amrep, Inc., Agent: Lewis & Harrison LLC, 122 C St. NW., Washington, DC 20001.
53883 | Control Solutions, Inc., 5903 Genoa-Red Bluff Rd., Pasadena, TX 77507-1041.
75341 | Osmose Utilities Services, Inc., 980 Ellicott St., Buffalo, NY 14209.
CA110009 | Airgas Specialty Gases, Inc., 2530 Sever Rd., Suite 300, Lawrenceville, GA 30043.
GA080007, MI060004, VA080007 | Syngenta Crop Protection, LLC, D/B/A Syngenta Crop Protection, Inc., P.O. Box 18300, Greensboro, NC 27149-8300.
GA080011, KY080024, VA080009 | Valent U.S.A. Corporation, 1600 Riviera Avenue, Suite 200 Walnut Creek, CA 94596.
ID060014, MT950003, NV040003, NV060007, SD070001 | Hacco, Inc. 110 Hopkins Dr., Randolph, WI 53956-1316.
MI000003 | Arysta Lifescience North America, LLC, 15401 Weston Parkway, Suite 150, Cary, NC 27513.
NV080003 | BASF Corporation, 26 Davis Dr., Research Triangle Park, NC 27709-3528.
WA060011 | Nippon Soda Co. Ltd., Agent: Nisso America Inc., 45 Broadway, Suite 2110, New York, NY 10006.

III. Summary of Public Comments Received and Agency Response to Comments

The Agency received comments on the notice but none merited its further review of the requests. The comments received were general comments on pesticide regulation and were not specific to the products in this order. For this reason, the Agency does not believe that the comments submitted during the comment period merit further review or a denial of the requests for voluntary cancellation.

IV. Cancellation Order

Pursuant to FIFRA section 6(f), EPA hereby approves the requested cancellations of the registrations identified in Table 1 of Unit II. Accordingly, the Agency hereby orders that the product registrations identified in Table 1 of Unit II. are cancelled. The effective date of the cancellations that are the subject of this notice is July 25, 2012. Any distribution, sale, or use of existing stocks of the products identified in Table 1 of Unit II. in a manner inconsistent with any of the provisions for disposition of existing stocks set forth in Unit VI. will be a violation of FIFRA.

V. What is the agency's authority for taking this action?

Section 6(f)(1) of FIFRA provides that a registrant of a pesticide product may at any time request that any of its pesticide registrations be cancelled or amended to terminate one or more uses. FIFRA further provides that, before acting on the request, EPA must publish a notice of receipt of any such request in the Federal Register. Thereafter, following the public comment period, the EPA Administrator may approve such a request. The notice of receipt for this action was published for comment in the Federal Register issue of January 11, 2012 (77 FR 1679) (FRL-9328-3). The comment period closed on July 9, 2012.

VI. Provisions for Disposition of Existing Stocks

Existing stocks are those stocks of registered pesticide products which are currently in the United States and which were packaged, labeled, and released for shipment prior to the effective date of the cancellation action. The existing stocks provisions for the products subject to this order are as follows.

The registrants may continue to sell and distribute existing stocks of products listed in Table 1 of Unit II. until July 25, 2013, which is 1 year after the publication of the Cancellation Order in the Federal Register. Thereafter, the registrants are prohibited from selling or distributing products listed in Table 1, except for export in accordance with FIFRA section 17, or proper disposal. Persons other than the registrants may sell, distribute, or use existing stocks of products listed in Table 1 of Unit II. until existing stocks are exhausted, provided that such sale, distribution, or use is consistent with the terms of the previously approved labeling on, or that accompanied, the cancelled products.

List of Subjects

Environmental protection, Pesticides and pests.

Dated: July 18, 2012.
Richard P. Keigwin, Jr.,
Director, Pesticide Re-evaluation Division, Office of Pesticide Programs.

[FR Doc. 2012-18132 Filed 7-24-12; 8:45 am]

BILLING CODE 6560-50-P